DEPARTMENT OF HOUSING AND URBAN DEVELOPMENT

[Docket No. FR-5478-N-04]

Privacy Act; Notice of Revision of System of Records, the Single Family Housing Enterprise Data Warehouse

AGENCY: Office of the Chief Information Officer, HUD.

ACTION: Notice of revision of agency's Privacy Act System of Records.

SUMMARY: HUD is proposing to revise information published in the Federal Register about one of its record systems, the Single Family Housing Enterprise Data Warehouse (SFHEDW). The revision to the record system reflects current administrative changes; revises the system location; and involves adding a new routine use exception to permit the disclosure of records to the Federal National Mortgage Association (also known as Fannie Mae). Under this initiative HUD will transmit personal borrower data to Fannie Mae to facilitate financing opportunities to borrowers of FHA Title 1 loans for the purpose of making energy efficiency improvements to their principal residence. This initiative supports HUD mission to create strong, sustainable, inclusive communities and quality affordable homes. This notice deletes and supersedes prior notice published in the Federal Register at 73 FR 24604 on May 5, 2008. The scope and functional purpose of the systems remains unchanged.

DATES: Effective Date: This action shall be effective without further notice on November 28, 2011 unless comments are received during or before this period that would result in a contrary determination.

Comments Due Date: November 28, 2011.

ADDRESSES: Interested persons are invited to submit comments regarding this notice to the Rules Docket Clerk, Office of General Counsel, Department of Housing and Urban Development, 451 Seventh Street SW., Room 10276, Washington, DC 20410-3000. Communications should refer to the above docket number and title. A copy of each communication submitted will be available for public inspection and copying between 8 a.m. and 5 p.m. weekdays at the above address.

FOR FURTHER INFORMATION CONTACT: Harold Williams, Acting Departmental Privacy Act Officer, Office of the Chief Information Officer, Department of Housing and Urban Development, 451 Seventh Street SW., Room 2256, Washington, DC 20410, telephone number (202) 402-8087 or Mary Jo Sullivan, System Owner, Director, Office of Single Family Program Development, Department of Housing and Urban Development, 451 Seventh Street, SW., Washington, DC 20410, telephone number (202) 708-2121. (These are not toll-free numbers.) Telecommunication device for hearing-and speech-impaired individuals (TTY) is available at (800) 877-8339 (Federal Information Relay Service).

SUPPLEMENTARY INFORMATION: Title 5 U.S.C. 552a(e)(4) and (11) provide that the public be afforded a 30-day period in which to comment on the new system of records, and require published notice of the existence and character of the system of records.

The report was submitted to the Office of Management and Budget (OMB), the Senate Committee on Homeland Security and Governmental Affairs, and the House Committee on Oversight and Government Reform pursuant to paragraph 4c of Appendix 1 to OMB Circular No. A-130, “Federal Responsibilities for Maintaining Records About Individuals,” July 25, 1994 (59 FR 37914).

Authority: 5 U.S.C. 552a, 88 Stat. 1896; 42 U.S.C. 3535(d).

Dated: October 19, 2011.
Jerry E. Williams,
Chief Information Officer.

HUD/HSF-01

System name:

Single Family Housing Enterprise Data Warehouse (SFHEDW).

System location:

The HUD Data Center, Hewlett Packard Facility, South Charleston, West Virginia. HUD staff throughout the United States access SFHEDW through HUD's standard telecommunications network from desktop workstations.

Categories of individuals covered by the system:

Individuals who have obtained a mortgage insured under HUD/FHA's single family mortgage insurance programs, individuals who assumed such a mortgage, and individuals involved in appraising or underwriting the mortgage.

Categories of records in the system:

Automated files contain name, address, date of birth, home address, and social security number; racial/ethnic background, if disclosed, on mortgagors; identifying numbers on individuals involved in processing the loan; and data regarding currently and formerly insured mortgages. The loan data includes underwriting data, such as loan-to-value ratios and credit ratios; original terms, such as mortgage amount, interest rate, term in months; status of the mortgage insurance; and history of payment defaults, if any.

Authority for maintenance of the system:

Sec. 203, National Housing Act, Public Law 73-479; 42 U.S.C. 3543, Housing & Community Development Act of 1987.

Purpose(s):

The SFHEDW is an ongoing, fully operational data warehouse that is the key source of data for anyone who needs Single Family data. It is an integrated data warehouse that contains critical Single Family business data from fourteen (14) sources, mostly from FHA Single Family automated systems. The system allows queries and provides reporting tools to support oversight activities, market and economic assessment, public and stakeholder communication, planning and performance evaluation, policies and guidelines promulgation, monitoring and enforcement.

Routine uses of records maintained in the system, including categories of users and the purposes of such uses:

In addition to those disclosures generally permitted under 5 U.S.C. 552a(b) of the Privacy Act other routine uses include:

(a) To the FBI to investigate possible fraud revealed in underwriting, insuring or monitoring.

(b) To Department of Justice for prosecution of fraud revealed in underwriting, insuring or monitoring.

(c) To Federal National Mortgage Association (also known as Fannie Mae), when Fannie Mae is the holder of single-family energy efficient mortgage and Title I home improvement loans, without the use of SSN's.

(d) To appropriate agencies, entities, and persons when:

(1) the Department suspects or has confirmed that the security or confidentiality of information in the system of records has been compromised;

(2) the Department has determined that as a result of the suspected or confirmed compromise there is a risk of harm to economic or property interests, identity theft or fraud, or harm to the security or integrity of this system or other systems or programs (whether maintained by the HUD or another agency or entity) that rely upon the compromised information; and

(3) the disclosure made to such agencies, entities, and persons is reasonably necessary to assist in connection with the HUD's efforts to respond to the suspected or confirmed compromise and prevent, minimize, or remedy such harm.

Policies and practices for storing, retrieving, accessing, retaining, and disposing of records in the system:

Storage:

Records are stored on magnetic tape/disc/drum. Manual files are stored in file cabinets with secured by locks.

Retrievability:

Records are retrieved by name, social security number or other identification number, case number, property address, or any other type of stored data.

Safeguards:

Automated records are maintained in secured areas. Access is limited to authorized personnel. Manual records are accessed by only those who have a need-to-know. System access is granted by user id and password only.

Retention and disposal:

Computerized records of insured cases are retained for at least 10 years beyond maturity, prepayment, or claim termination, approved under HUD's Record Disposition Schedule 13, Title I Records, Appendix 13.

System manager(s) and address:

Mary Jo Sullivan, Deputy Director, Office of Single Family Program Development, HUP, Department of Housing and Urban Development, 451 Seventh Street, SW., Washington, DC 20410.

Notification and access procedures:

For information, assistance, or inquiry about existence of records, contact the Acting Departmental Privacy Act Officer at the appropriate location in accordance with 24 CFR part 16.

Contesting record procedures:

The procedures for contesting the contents of records and appealing initial denials appear in 24 CFR Part 16. If additional information or assistance is required, contact:

(i) The Acting Departmental Privacy Act Officer, Department of Housing and Urban Development; 451 Seventh Street, SW., Room 2256, Washington, DC 20410, if contesting the content of records; or

(ii) The Departmental Privacy Appeals Office, Office of General Counsel, Department of Housing and Urban Development, 451 Seventh Street, SW., Washington, DC 20410 for appeals of initial denials.

Record source categories:

Mortgagors, appraisers, mortgagee staff underwriters, and HUD employees—indirectly, immediate sources are the following:

1. A43—Single Family Insurance System (SFIS)

2. A43C—Single Family Insurance Claims System (CLAIMS)

3. A80R—Single Family Premium Collections System—Upfront (SFPCS-U)

4. A80H—Single Family Mortgage Asset Recovery Technology System (SMART)

5. A80S—Single Family Acquired Assets Management System (SAMS)

6. F17—Computerized Home Underwriting Mortgage System (CHUMS)

7. F42D—Single Family Default Monitoring System (SFDMS)

8. F42—Consolidated Single Family Statistical System (CSFSS)

9. F51—Institution Master File (IMF)

10. A80N—SF Mortgage Notes Servicing (SFMNS/IFS)

11. F72—Title I Insurance and Claims System (TIIS)

12. F12—Home Equity Conversion Mortgages (HECM)

13. HMDA data from Federal Reserve Board (FRB)

14. F71A—Generic Debt Management System (GDEBT)

15. A15—Geocoding Service Center (GSC)

Exemptions from certain provision of the Act:

None.

[FR Doc. 2011-27988 Filed 10-27-11; 8:45 am]

BILLING CODE 4210-67-P